DEPARTMENT OF HEALTH AND HUMAN SERVICES

National Institutes of Health

National Institute on Drug Abuse; Amended Notice of Meeting

Notice is hereby given of a change in the meeting of the National Institute on Drug Abuse Special Emphasis Panel, July 27, 2017, 09:00 a.m. to July 27, 2017, 05:00 p.m., National Institutes of Health, Neuroscience Center, 6001 Executive Boulevard, Rockville, MD 20852 which was published in the Federal Register on June 29, 2017, 82 125 FR 2017-13696.

This meeting was amended to change the date from July 27, 2017 to July 25, 2017. The time of the meeting remains the same. The meeting is closed to the public.

Dated: July 10, 2017.
Natasha M. Copeland,
Program Analyst, Office of Federal Advisory Committee Policy.

[FR Doc. 2017-14858 Filed 7-14-17; 8:45 am]

BILLING CODE 4140-01-P